DEPARTMENT OF DEFENSE

Office of the Secretary

Defense Science Board

ACTION: Notice of Advisory Committee meetings.

SUMMARY: The Defense Science Board (DSB) Task Force on Managed Information Dissemination Follow-On Initiative will meet in closed session on February 22-23, 2001, at SAIC, 4001 N. Fairfax Drive, Arlington, VA. The Task Force will review the need and feasibility of a coordinated information dissemination capability within the U.S. Government encompassing tactical, operational, and strategic information. Specifically, they will investigate: detailed and actionable recommendations with respect to enabling “channels” and establishing appropriate “brand identity”; DoD's role in a U.S. strategic information dissemination capability; policy, legal, and economic issues hindering U.S. capabilities; and identify new and emerging technologies capable of enhancing U.S. capabilities.

The mission of the Defense Science Board is to advise the Secretary of Defense and the Under Secretary of Defense for Acquisition, Technology & Logistics on scientific and technical matters as they affect the perceived needs of the Department of Defense. At these meetings, the Defense Science Board Task Force will review and evaluate the Department's ability to provide information.

In accordance with Section 10(d) of the Federal Advisory Committee Act, Public Law 92-463, as amended (5 U.S.C. App. II), it has been determined that this Defense Science Board meeting, concerns matters listed in 5 U.S.C. 552b(c) (1), and that accordingly this meeting will be closed to the public.

Due to critical mission requirements and the limited timeframe to accomplish this review, there is insufficient time to provide timely notice required by section 10(c)(2) of the Federal Advisory Committee Act and Subsection 101-6.1015(b) of the GSA Final Rule on Federal Advisory Committee Management, 41 CFR Part 101-6, which further requires publication at least 15 calendar days prior to this meeting.

Dated: February 16, 2001.
L.M. Bynum,
Alternate OSD Federal Register Liaison Officer, Department of Defense.

[FR Doc. 01-4483 Filed 2-22-01; 8:45 am]

BILLING CODE 5001-10-M